DEPARTMENT OF AGRICULTURE

Food and Nutrition Service

Agency Information Collection Activities: Proposed Collection; Comment Request: Report of the Emergency Food Assistance Program (TEFAP) Administrative Costs (Form FNS-667)

AGENCY: Food and Nutrition Service, USDA.

ACTION: Notice.

SUMMARY: In accordance with the Paperwork Reduction Act of 1995, this notice invites the general public and other public agencies to comment on the proposed information collection of administrative cost information under the Emergency Food Assistance Program (TEFAP) for Form FNS-667. This proposal is an extension of a collection currently approved under OMB No. 0584-0385.

DATES: Written comments must be received on or before May 9, 2003.

ADDRESSES: Comments may be mailed or faxed to Rosalind Cleveland, Chief, Program Support Branch, Food Distribution Division, Food and Nutrition Service, U.S. Department of Agriculture, 3101 Park Center Drive, Alexandria, VA 22302. The fax number is 703-305-1410. Comments may also be emailed to: fdd-pst@fns.usda.gov.

Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

All written comments will be open for public inspection at the office of the Food and Nutrition Service during regular business hours (8:30 a.m. to 5 p.m., Monday through Friday) at 3101 Park Center Drive, Alexandria, Virginia 22302, Room 508.

All responses to this notice will be summarized and included in the request for OMB approval. All comments will become a matter of public record.

FOR FURTHER INFORMATION CONTACT: Rosalind Cleveland at 703-305-2888.

SUPPLEMENTARY INFORMATION: Title: Report of the Emergency Food Assistance Program (TEFAP) Administrative Costs (Form FNS-667).

OMB Number: 0584-0385.

Form Number: FNS-667.

Expiration Date: April 30, 2003.

Type of Request: Extension of Currently Approved Information Collection.

Abstract: The FNS-667, Report of the Emergency Food Assistance Program (TEFAP) Administrative Costs, is completed quarterly, with a close-out report, by the State agencies administering TEFAP. States use the form to report how Federal administrative funds are utilized in three separate categories. States may use funds to pay costs incurred by the State agency itself, or to pay costs incurred by local recipient agencies—emergency feeding organizations (EFO) that distribute USDA commodities to eligible households. States also “pass down” to EFOs a certain percentage of Federal administrative funds received, as required by the Emergency Food Assistance Act of 1983, as amended, Section 1772(a) of the Food, Agriculture, Conservation, and Trade Act of 1990, Pub. L. 101-624. The information reported on the form is used by the Food and Nutrition Service to ensure that States meet this requirement, as well as the requirement that States match all Federal administrative funds that are not passed down to the local agencies, or used to pay costs on their behalf.

Respondents: State Agencies.

Estimated Number of Respondents: 55 (States, Territories, and the District of Columbia.

Estimated Number of Responses per Respondent: 5.

Estimated Time per Response: .5 to 8 hours per response/average 3.5 hours.

Estimated Total Annual Burden on Respondents: 962.5 hours annually (55 State agencies at 5 responses per agency = 275 responses @ 3.5 hours). A total of five reports, four quarterly and a final close-out report, are submitted. Recordkeeping burden = 0 hours. Reporting burden = 962.5 hours.

Dated: March 4, 2003.
Roberto Salazar,
Administrator.

[FR Doc. 03-5585 Filed 3-7-03; 8:45 am]

BILLING CODE 3410-30-P